FEDERAL COMMUNICATIONS COMMISSION

[OMB 3060-0548, OMB 3060-0652; FR ID 321955]

Information Collections Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection burden on small business concerns with fewer than 25 employees.

The FCC may not conduct or sponsor a collection of information unless it displays a currently valid OMB control number. No person shall be subject to any penalty for failing to comply with a collection of information subject to the PRA that does not display a valid OMB control number.

DATES: Written PRA comments should be submitted on or before February 13, 2026. If you anticipate that you will be submitting comments but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION:

OMB Control Number: 3060-0548.

Title: Sections 76.1709 and 76.1620, Availability of Signals; Section 76.1614, Identification of Must-Carry Signals.

Type of Review: Extension without change of a currently approved collection.

Respondents: Businesses or other for-profit.

Number of Respondents and Responses: 4,103 respondents; 49,236 responses.

Estimated Time per Response: 0.5-1.0 hour.

Frequency of Response: Recordkeeping, Third party disclosure, On occasion reporting requirement.

Obligation to Respond: Voluntary.

Total Annual Burden: 24,618 hours.

Total Annual Cost: No cost.

Needs and Uses: 47 CFR 76.1709(a) states that the operator of every cable television system shall maintain for public inspection a file containing a list of all broadcast television stations carried by its system in fulfillment of the must-carry requirements. Such list shall include the call sign; community of license, broadcast channel number, cable channel number, and in the case of a noncommercial educational broadcast station, whether that station was carried by the cable system on March 29, 1990. 47 CFR 76.1614 and 47 CFR 76.1709(c) each state that a cable operator shall respond in writing within 30 days to any written request by any person for the identification of the signals carried on its system in fulfillment of the must-carry requirements. In addition, 47 CFR 76.1614 states that the required written response may be delivered by email, if the consumer used email to make the request or complaint directly to the cable operator, or if the consumer specifies email as the preferred delivery method in the request or complaint.

47 CFR 76.1620, pursuant to 47 U.S.C. 614(b)(7), states that if a cable operator authorizes subscribers to install additional receiver connections, but does not provide the subscriber with such connections, or with the equipment and materials for such connections, the operator shall notify such subscribers of all broadcast stations carried on the cable system which cannot be viewed via cable without a converter box and shall offer to sell or lease such a converter box to such subscribers. Such notification must be provided by June 2, 1993, and annually thereafter and to each new subscriber upon initial installation. The notice, which may be included in routine billing statements, shall identify the signals that are unavailable without an additional connection, the manner for obtaining such additional connection and instructions for installation. 47 CFR 76.1600(a) provides that written information provided by cable operators to subscribers or customers pursuant to § 76.1620 may be delivered electronically by email to any subscriber who has not opted out of electronic delivery if the entity: (1) Sends the notice to the subscriber's or customer's verified email address; (2) Provides either the entirety of the written information or a weblink to the written information in the notice; and (3) Includes, in the body of the notice, a telephone number that is clearly and prominently presented to subscribers so that it is readily identifiable as an opt-out mechanism that will allow subscribers to continue to receive paper copies of the written material.

Note: These recordkeeping and notification requirements ensure that subscribers are aware of the broadcast stations carried in compliance with the Commission's cable must-carry rules, see 47 CFR 76.56.

OMB Control Number: 3060-0652.

Title: Section 76.309, Customer Service Obligations; Section 76.1600, Electronic Delivery of Notices; Section 76.1602, Customer Service—General Information, Section 76.1603, Customer Service—Rate and Service Changes and 76.1619, Information and Subscriber Bills.

Form Number: N/A.

Type of Review: Extension of a currently approved collection.

Respondents: Business or other for-profit entities; State, Local or Tribal Government.

Number of Respondents and Responses: 540 respondents; 1,102,100 responses.

Estimated Time per Response: .0167-1 hour.

Frequency of Response: On occasion reporting requirement, Third Party Disclosure requirement.

Total Annual Burden: 34,650 hours.

Total Annual Cost: No cost.

Needs and Uses: 47 CFR 76.309(a) states that a cable franchise authority may enforce the customer service standards set forth in paragraph (c) of this section against cable operators. The franchise authority must provide affected cable operators ninety (90) days written notice of its intent to enforce the standards.

47 CFR 76.1600(e) requires that, after July 31, 2020, written information provided by cable operators to broadcast stations pursuant to 47 CFR 76.64(k), 76.1601, 76.1607, 76.1608, 76.1609, and 76.1617 must be delivered electronically to full-power and Class A television stations via email to the email address for carriage-related questions that the station lists in its public file in accordance with 47 CFR 73.3526 and 73.3527, or in the case of low-power television stations and noncommercial educational translator stations that are entitled to such notices, to the license's email address (not a contact representative's email address, if different from the licensee's email address) as displayed publicly in the Licensing and Management System (LMS) or the primary station's carriage-related email address if the noncommercial educational translator station does not have its own email address listed in LMS.

47 CFR 76.1602(a) states that a cable franchise authority may enforce the customer service standards set forth in paragraph (b) of this section against cable operators. The franchise authority must provide affected cable operators 90 days written notice of its intent to enforce standards.

47 CFR 76.1602(b) states that effective July 1, 1993, the cable operator shall provide written information on each of the following areas at the time of installation of service, at least annually to all subscribers, and at any time upon request: (1) Products and services offered; (2) Prices and options for programming services and conditions of subscription to programming and other services; (3) Installation and service maintenance policies; (4) Instructions on how to use the cable service; (5) Channel positions of programming carried on the system; and (6) Billing and complaint procedures, including the address and telephone number of the local franchise authority's cable office. (7) Effective May 1, 2011, any assessed fees for rental of navigation devices and single and additional CableCARDs; and, (8) Effective May 1, 2011, if such provider includes equipment in the price of a bundled offer of one or more services, the fees reasonably allocable to (i) the rental of single and additional CableCARDs and (ii) the rental of operator-supplied navigation devices.

47 CFR 76.1602(c) states that subscribers shall be advised of the procedures for resolution of complaints about the quality of the television signal delivered by the cable system operator, including the address of the responsible officer of the local franchising authority.

47 CFR 76.1603(a) states that a cable franchise authority may enforce the customer service standards set forth in paragraph (b) of this section against cable operators. The franchise authority must provide affected cable operators 90 days written notice of its intent to enforce standards.

47 CFR 76.1603(b) states that cable operators shall provide written notice to subscribers of any changes in rates or services. The rule requires cable operators to provide the information to subscribers at least 30 days in advance of the change, unless the change results from circumstances outside of the cable operator's control (including failed retransmission consent or program carriage negotiations during the last 30 days of a contract), in which case notice shall be provided as soon as possible using any reasonable written means at the operator's sole discretion, including channel slates. Notice of rate changes shall include the precise amount of the rate change and explain the reason for the change in readily understandable terms. Notice of changes involving the addition or deletion of channels shall individually identify each channel affected.

47 CFR 76.1603(c) states that a cable operator not subject to effective competition shall provide 30 days' advance notice to its local franchising authority of any increase proposed in the price to be charged for the basic service tier.

47 CFR 76.1619(b) states in case of a billing dispute, the cable operator must respond to a written complaint from a subscriber within 30 days. The required response may be delivered by email, if the consumer used email to make the request or complaint directly to the cable operator, or if the consumer specifies email as the preferred delivery method in the request or complaint.

47 CFR 76.1619(c) states a cable franchise authority may enforce the customer service standards set forth in this section against cable operators. The franchise authority must provide affected cable operators 90 days written notice of its intent to enforce standards.

47 CFR 76.1600 permits written information provided by cable operators to subscribers or customers pursuant to Sections 76.1601, 76.1602, 76.1603, 76.1604, 76.1618, and 76.1620, as well as subscriber privacy notifications required by cable operators, satellite providers, and open video systems pursuant to Sections 631, 338(i), and 653 of the Communications Act, to be delivered by email if certain consumer safeguards are met, as set forth in Section 76.1600(a) and Section 76.1600(b).

Section 76.1600(c) permits cable operators to provide certain portions of the Section 76.1602 annual notices electronically to subscribers who have not opted out of electronic delivery under Section 76.1600(a)(3) or 76.1600(c)(3) if they prominently display the following on the front or first page of the printed annual notice:

(1) A weblink in a form that is short, simple, and easy to remember, leading to written information required to be provided pursuant to Section 76.1602(b)(2), (7), and (8);

(2) A weblink in a form that is short, simple, and easy to remember, leading to written information required to be provided pursuant to Section 76.1602(b)(5); and

(3) A telephone number that is readily identifiable as an opt-out mechanism that will allow subscribers to continue to receive paper copies of the entire annual notice.

47 CFR 76.1600(d) provides that, if the conditions for electronic delivery in subsections 76.1600(a) and 76.1600(b) are not met, or if a subscriber opts out of electronic delivery, the written material must be delivered by paper copy to the subscriber's physical address.

Federal Communications Commission.
Marlene Dortch,
Secretary.

[FR Doc. 2025-22714 Filed 12-12-25; 8:45 am]

BILLING CODE 6712-01-P